NUCLEAR REGULATORY COMMISSION

[Docket Nos. 50-413 and 50-414; NRC-2011-0100; Docket Nos. 50-369 and 50-370; Docket Nos. 50-269, 50-270, and 50-287]

Duke Energy Carolinas, LLC; Catawba Nuclear Station, Units 1 and 2; McGuire Nuclear Station, Units 1 and 2; Oconee Nuclear Station, Units 1, 2, and 3; Notice of Withdrawal of Application for Amendment to Facility Operating License

The U.S. Nuclear Regulatory Commission (NRC, the Commission) has granted the request by Duke Energy Carolinas, LLC (the licensee), to withdraw its April 26, 2010, application for proposed amendments to Renewed Facility Operating Licenses NPF-35 and NPF-52 for the Catawba Nuclear Station, Units 1 and 2, located in York County, South Carolina; Renewed Facility Operating Licenses NPF-9 and NPF-17, for the McGuire Nuclear Station, Units 1 and 2, located in Mecklenburg County, North Carolina; and Renewed Facility Operating Licenses DPR-38, DPR-47, and DPR-55 for the Oconee Nuclear Station, Units 1, 2, and 3 located in Oconee County, South Carolina.

The proposed amendment would have revised the Technical Specifications (TSs) and Licenses by making organizational changes.

The Commission has previously issued a Notice of Consideration of Issuance of Amendment published in the Federal Register on September 7, 2010 (75 FR 54392). However, the licensee has chosen not to pursue the proposed change.

For further details with respect to this action, see the application for amendment dated April 26, 2010 (Agencywide Documents Access and Management System (ADAMS) Accession No. ML101250042), and the NRC staff's letters dated April 18, 2011 (ADAMS Accession No. ML11094A029), and April 26, 2011 (ADAMS Accession No. ML11109A079). Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 26th day of April 2011.
For the Nuclear Regulatory Commission.
John Stang,
Senior Project Manager, Plant Licensing Branch II-1, Division of Operating Reactor Licensing, Office of Nuclear Reactor Regulation.

[FR Doc. 2011-10558 Filed 4-29-11; 8:45 am]

BILLING CODE 7590-01-P